FEDERAL COMMUNICATIONS COMMISSION

47 CFR Part 73

[DA 03-2890; MB Docket No. 03-140; RM-10697]

Radio Broadcasting Services; Avoca, Freeland & Wilkes-Barre, PA

AGENCY: Federal Communications Commission.

ACTION: Final rule.

SUMMARY: This document, reallots Channel 276A from Freeland, PA to Avoca, PA and modifies the license for Station WAMT to specify operation on Channel 276A at Freeland, and reallots Channel 253B from Wilkes-Barre, PA to Freeland, PA and modifies the license for Station WKRZ accordingly. See 68 FR 40237, July 7, 2003. The coordinates for Channel 276A at Avoca, PA, are 41-18-20 and 75-45-38. The coordinates for Channel 253B at Freeland are 41-11-56 and 75-49-06. With this action, this proceeding is terminated.

DATES: Effective November 17, 2003.

FOR FURTHER INFORMATION CONTACT: Kathleen Scheuerle, Media Bureau, (202) 418-2180.

SUPPLEMENTARY INFORMATION: This is a summary of the Commission's Report and Order, MB Docket No. 03-140, adopted October 1, 2003, and released October 3, 2003. The full text of this Commission decision is available for inspection and copying during regular business hours in the FCC's Reference Information Center, Portals II, 445 12th Street, SW., Rooom CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Pennsylvania, is amended by adding Avoca, Channel 276A, by removing Channel 276A and adding Channel 253B at Freeland, and by removing Channel 253B at Wilkes-Barre.

Federal Communications Commission.
John A. Karousos,
Assistant Chief, Audio Division, Media Bureau.

[FR Doc. 03-26958 Filed 10-24-03; 8:45 am]

BILLING CODE 6712-01-P